DEPARTMENT OF TRANSPORTATION

Federal Aviation Administration

14 CFR Part 39

[Docket No. 2002-NM-332-AD]

RIN 2120-AA64

Airworthiness Directives; Cessna Model 650 Airplanes

AGENCY: Federal Aviation Administration (FAA), Department of Transportation (DOT).

ACTION: Supplemental notice of proposed rulemaking; reopening of comment period.

SUMMARY: This document revises an earlier proposed airworthiness directive (AD), applicable to certain Cessna Model 650 airplanes, that would have required repetitive replacement of the horizontal stabilizer primary trim actuator assembly (HSTA) with a repaired assembly. This new action revises the proposed rule by removing the requirement for repetitive replacement of the HSTA; adding a requirement to inspect to determine the part number of the actuator control unit (ACU) and replace the ACU with a new, improved ACU if necessary; and adding a requirement to revise the Limitations section of the airplane flight manual. This new action also revises the applicability to include all Model 650 airplanes. The actions specified by this new proposed AD are intended to prevent uncommanded movement of the horizontal stabilizer, which could result in reduced controllability of the airplane. This action is intended to address the identified unsafe condition.

DATES: Comments must be received by May 17, 2005.

ADDRESSES: Submit comments in triplicate to the Federal Aviation Administration (FAA), Transport Airplane Directorate, ANM-114, Attention: Rules Docket No. 2002-NM-332-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-332-AD” in the subject line and need not be submitted in triplicate. Comments sent via the Internet as attached electronic files must be formatted in Microsoft Word 97 or 2000 or ASCII text.

The service information referenced in the proposed rule may be obtained from Cessna Aircraft Co., P.O. Box 7706, Wichita, Kansas 67277. This information may be examined at the FAA, Transport Airplane Directorate, 1601 Lind Avenue, SW., Renton, Washington; or at or at the FAA, Wichita Aircraft Certification Office, 1801 Airport Road, Room 100, Mid-Continent Airport, Wichita, Kansas.

FOR FURTHER INFORMATION CONTACT: Robert P. Busto, Aerospace Engineer, Systems and Propulsion Branch, ACE-116W, FAA, Wichita Aircraft Certification Office, 1801 Airport Road, Room 100, Mid-Continent Airport, Wichita, Kansas 67209; telephone (316) 946-4157; fax (316) 946-4107.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-332-AD.” The postcard will be date stamped and returned to the commenter.

Availability of NPRMs

Any person may obtain a copy of this NPRM by submitting a request to the FAA, Transport Airplane Directorate, ANM-114, Attention: Rules Docket No. 2002-NM-332-AD, 1601 Lind Avenue, SW., Renton, Washington 98055-4056.

Discussion

A proposal to amend part 39 of the Federal Aviation Regulations (14 CFR part 39) to add an airworthiness directive (AD), applicable to certain Cessna Model 650 airplanes, was published as a notice of proposed rulemaking (NPRM) in the Federal Register on August 6, 2003 (68 FR 46514). That NPRM would have required repetitive replacement of the horizontal stabilizer primary trim actuator assembly (HSTA) with a repaired assembly. That NPRM was prompted by reports indicating that the ability of the no-back feature of the HSTA assembly, a design feature to prevent uncommanded movement of the horizontal stabilizer, could be degraded on Cessna Model 650 airplanes. We issued that NPRM to prevent uncommanded movement of the horizontal stabilizer, which could result in reduced controllability of the airplane.

In the preamble of that NPRM, we explained that we considered the requirements “interim action” and were considering further rulemaking. We now have determined that further rulemaking is indeed necessary, and this supplemental AD follows from that determination.

Actions Since Issuance of Original NPRM

Since issuance of the original NPRM, the airplane manufacturer in conjunction with the parts manufacturer has developed a new, improved actuator control unit (ACU) for Cessna Model 650 airplanes. We have determined that this new, improved ACU provides a mechanism for detecting a degraded no-back device before a failed device can contribute to reduced controllability of the airplane. Furthermore, some of these new, improved ACUs are already in service and have proven to be effective at identifying degraded no-back devices.

We also have determined that long-term continued operational safety is better ensured by modifications or design changes to remove the source of the problem, than by repetitive replacements. Long-term inspections may not provide the degree of safety necessary for the transport airplane fleet. This, coupled with a better understanding of the human factors associated with numerous repetitive replacements, has led us to consider placing less emphasis on special procedures and more emphasis on design improvements. The proposed replacement is consistent with these considerations.

Explanation of New Relevant Service Information

We have reviewed Cessna Service Bulletin SB650-27-53, dated March 11, 2004. The service bulletin describes procedures for inspecting to determine the part number of the ACU and replacing the ACU with a new, improved ACU if necessary. Accomplishing the actions specified in the service information is intended to adequately address the unsafe condition.

Cessna has also issued the following temporary revisions (TRs) to the airplane flight manual (AFM):

AFM Revisions
Applicable Model 650 airplanes | Cessna TR(s)
Citation III, S/Ns 0001 through 0199 inclusive, and 0203 through 0206 inclusive | 65C3FM TC-R02-01, dated May 12, 2004.
Citation III, S/Ns 0001 through 0199 inclusive, and 0203 through 0206 inclusive; equipped with Honeywell SPZ-8000 integrated avionics system | 65C3FM TC-R02-06, dated August 11, 2004.
Citation III, S/Ns 0001 through 0199 inclusive, and 0203 through 0206 inclusive; not equipped with Honeywell SPZ-8000 integrated avionics system | 65C3FM TC-R02-07, dated August 11, 2004.
Citation VI, S/Ns 0200 through 0202 inclusive, and 0207 and subsequent | 65C6FM TC-R04-01, dated May 12, 2004. 65C6FM TC-R04-06, dated August 11, 2004.
Citation VII, S/Ns 7001 and subsequent | 65C7FM TC-R10-01, dated May 12, 2004.
Citation VII, S/Ns 7001 and subsequent, equipped with Honeywell SPZ-8000 integrated avionics system | 65C7FM TC-R10-07, dated August 11, 2004.

TR 65C3FM TC-R02-01, 65C6FM TC-R04-01, and 65C7FM TC-R10-01 describe revisions to the Limitations section of the AFM to advise the flightcrew to accomplish the warning system check for the stabilizer trim systems.

TR 65C3FM TC-R02-06, 65C3FM TC-R02-07, 65C6FM TC-R04-06, and 65C7FM TC-R10-07 describe revisions to the Normal Procedures section of the AFM to advise the flightcrew that failure of the primary trim fail annunciator light to illuminate indicates a fault in the primary trim control system.

Comments

Due consideration has been given to the comments received in response to the original NPRM.

Request To Add Terminating Action

One commenter, the airplane manufacturer, requests that we replace the proposed requirement for repetitive replacements of the HSTA assembly with a terminating action. The commenter states that Cessna Service Bulletin 650-27-53, dated March 11, 2004, specifies replacing the ACU with a new, improved ACU, part number (P/N) 9914197-7. This new ACU is an upgrade with a new monitor within the ACU that continuously checks function of the no-back arrangement within the HSTA assembly. The monitor exposes degrading function of the no-back before it can contribute to reduced controllability of the airplane. When degrading function is detected, the new ACU immediately sets a fault that causes the airplane to fail an existing pre-flight check, limiting the airplane's exposure to degradation for the remainder of the flight.

Another commenter, an operator, states that Cessna Service Bulletin SB650-27-50, dated June 12, 2002 (which is cited in the original NPRM as as a source of service information for the repetitive replacement of the HSTA assembly), has not been distributed to operators of the affected Model 650 airplanes. The commenter also states that the manufacturer intends to supersede it with a new service bulletin that would recommend upgrading the ACU (Cessna Service Bulletin 650-27-53). The commenter states that requiring the original NPRM as proposed would compel operators to obtain an alternate method of compliance to use Cessna Service Bulletin 650-27-53. The commenter further states that documenting compliance of the proposed replacement of the HSTA assembly every 18 months involves considerable time and effort. We infer that this commenter also requests we revise the original NPRM to add the terminating action referenced in Cessna Service Bulletin 650-27-53.

We agree with the commenters' request for the reasons stated above. Also as stated earlier, we have determined that the new, improved ACU provides a mechanism for detecting a degraded no-back device before a failed device can contribute to reduced controllability of the airplane. Therefore, we have revised paragraph (a) of this supplemental NPRM accordingly.

Request To Revise Applicability

One commenter, the airplane manufacturer, requests that we add Model 650 airplanes, serial numbers 0172 and 7095, to the applicability of the original NPRM. The commenter states that these two airplanes were omitted from the effectivity of Cessna Service Bulletin 650-27-50, dated June 12, 2002, because the recommended actions of that service bulletin had been incorporated on those airplanes before the service bulletin was published. The commenter states, however, that the original NPRM should also be applicable to these two airplanes.

We agree with the commenter. We have determined that Cessna Model 650 airplanes, serial numbers 0172 and 7095, are also subject to the unsafe condition addressed by this supplemental NPRM. These two airplanes also are included in the effectivity of Cessna Service Bulletin 650-27-53, the new source of service information for this supplemental NPRM. Therefore, we have added these two additional airplanes to the applicability of this supplemental NPRM, which expands the applicability to include all Model 650 airplanes.

Request To Clarify “Discussion” Paragraph

The same commenter requests that we revise the “Discussion” paragraph of the original NPRM to clarify that actuators with degraded no-back capability have been found only in the laboratory environment. As justification, the commenter asserts that no airplanes have experienced uncommanded movement of the horizontal stabilizer during flight, and no actuators have been removed from an airplane because of this suspected failure mode. The commenter states that operators could be misled into believing that failure of the actuator occurred in service. Additionally, the commenter proposed new wording to clarify that, for uncommanded movement of the horizontal stabilizer to occur, a second failure must occur in combination with the degradation of the no-back feature of the HSTA assembly. That second failure is loss of electrical power to the actuator clutch.

Although we agree with the commenter's statements, we cannot revise the “Discussion” paragraph because it is not restated in this supplemental NPRM. In addition to the second failure identified by the commenter, we have determined that failure of the actuator gear train in combination with degradation of the no-back feature of the HSTA assembly also could cause uncommanded movement of the horizontal stabilizer to occur. Therefore, the third sentence of the “Discussion” paragraph should have stated: “Should the no-back feature of the HSTA assembly be degraded, and in addition to that, electrical power to the actuator clutch is lost or the gear train of the actuator fails, the horizontal stabilizer could move when air loads are applied to it during flight.”

Request To Revise Cost Impact

The same commenter requests that we revise the cost impact to include the cost of the HSTA repair, since it is a significant amount. The commenter estimates that the cost of the replacement (including labor and repaired parts) as proposed in the original NPRM would be $7,500 per airplane, per replacement cycle, and that the U.S.-registered fleet cost would be $2,137,500, per replacement cycle. The commenter also states that “[t]he responsibility for the costs associated with the [original NPRM] should not be stated in the [original NPRM], as these business issues have not been settled, and are not relevant to the replacement.”

We do not agree. Since we have revised the requirements of this supplemental NPRM, operators are no longer required to repetitively replace the HSTA assembly with a repaired assembly. Therefore, this supplemental NPRM does not include the cost impact of the proposed HSTA replacement, but includes the proposed one-time replacement of the ACU.

We do, however, acknowledge the commenter's objection to assigning cost responsibility in the cost impact of the original NPRM. We infer that the commenter specifically objects to the sentence that stated, “[t]he manufacturer has indicated that it would provide the required parts at no cost.” The cost impact of the original NPRM was based on the best information we had at the time the original NPRM was published. We point out that, although we may have inadvertently misstated the true cost of a repaired assembly, the cost impact is only an estimate.

Request To Revise “Explanation of Requirements of Proposed Rule” Paragraph

The same commenter requests that we revise the “Explanation of Requirements of Proposed Rule” paragraph in the original NPRM. The commenter states that this paragraph should focus on the component of concern (HSTA assembly). The commenter also states that the phrases “is likely to exist” and “other products” are ambiguous and misleading. The commenter suggests changing the first sentence as follows: “Since an unsafe condition has been identified that may possibly exist or develop on aircraft of this same type design * * *.” As justification the commenter asserts, “[o]perators may be led to believe the unsafe condition is likely to exist.” Furthermore, the commenter states that “other products” could refer to either other aircraft, or other actuators of similar design.

We do not agree. Section 39.3 (“Definition of airworthiness directives”) of the Federal Aviation Regulations (14 CFR 39.3) specifies that airworthiness directives apply to the following products: aircraft, aircraft engine, propellers, and appliances. Since this supplemental NPRM applies to all Model 650 airplanes, the affected product is the airplane model. In addition, Section 39.5 (“When does FAA issue airworthiness directives?”) of the Federal Aviation Regulations (14 CFR 39.5) specifies that we issue an airworthiness directive when we find that an unsafe condition exists in the product and is likely to exist or develop in other products of the same type design. We also note that the “Explanation of Requirements of Proposed Rule” paragraph is not included in a supplemental NPRM, so there is no paragraph to revise if we had agreed with the request. Therefore, no change to this supplemental NPRM is necessary in this regard.

Request To Revise Part Number

The same commenter requests that we revise a certain referenced part number in paragraph (b) of the original NPRM. The commenter states we inadvertently referenced HSTA, P/N 9914056-3, as P/N 99140563.

We do not agree with the commenter. We have reviewed the original NPRM as published in the Federal Register on August 6, 2003 (68 FR 46514) and could not find the error the commenter refers to. Therefore, no change to this supplemental NPRM is necessary in this regard.

Conclusion

Since certain changes described above expand the scope of the originally proposed rule, the FAA has determined that it is necessary to reopen the comment period to provide additional opportunity for public comment.

Differences Between Supplemental NPRM and Service Bulletin

The service bulletin recommends installing a new, improved ACU at the next phase 2 inspection or within 18 months, whichever occurs first. However, we have determined that an 18-month interval would not address the identified unsafe condition soon enough to ensure an adequate level of safety for the affected fleet. Furthermore, an imprecise compliance time, such as “at the next phase 2 inspection,” would not address the identified unsafe condition in a timely manner. In developing an appropriate compliance time for this AD, we considered the degree of urgency associated with the subject unsafe condition as well as the availability of required parts, the average utilization of the affected fleet, and the time necessary to perform the installation (2 hours). In light of all of these factors, we find that a compliance time of 12 months represents an appropriate interval of time for affected airplanes to continue to operate without compromising safety. The compliance time has been coordinated with the manufacturer.

Operators should also note that, although the Accomplishment Instructions of the referenced service bulletin describe procedures for submitting a maintenance transaction report, this proposed AD would not require that action. The FAA does not need this information from operators.

Cost Impact

There are approximately 357 airplanes of the affected design in the worldwide fleet. The FAA estimates that 285 airplanes of U.S. registry would be affected by this proposed AD.

We estimate that it would take approximately 2 work hours per airplane to replace the ACU, and that the average labor rate is $65 per work hour. Required parts would cost approximately $3,000 per airplane if the ACU is exchanged. Based on these figures, the cost impact of the proposed replacement of the ACU on U.S. operators is estimated to be $892,050, or $3,130 per airplane.

The cost impact figure discussed above is based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions. The manufacturer may cover the cost of replacement parts associated with this proposed AD, subject to warranty conditions. As a result, the costs attributable to the proposed AD may be less than stated above.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Cessna Aircraft Company: Docket 2002-NM-332-AD.

Applicability: All Model 650 airplanes, certificated in any category.

Compliance: Required as indicated, unless accomplished previously.

To prevent uncommanded movement of the horizontal stabilizer, which could result in reduced controllability of the airplane, accomplish the following:

Inspection and Replacement if Necessary

(a) Within 12 months after the effective date of this AD, inspect to determine the part number (P/N) of the actuator control unit (ACU), in accordance with the Accomplishment Instructions of Cessna Service Bulletin 650-27-53, dated March 11, 2004. If an ACU having P/N 9914197-7 is installed on the airplane, then no further action is required by this paragraph. If an ACU having P/N 9914197-3 or P/N 9914197-4 is installed on the airplane, replace the existing ACU with a new, improved ACU having P/N 9914197-7, in accordance with the service bulletin. Although the service bulletin referenced in this AD specifies to submit certain information to the manufacturer, this AD does not include that requirement.

Airplane Flight Manual (AFM) Revision

(b) Within 1 month after the effective date of this AD or concurrently with the replacement required by paragraph (a) of this AD, whichever is first: Revise the Limitations and Normal Procedures sections of the AFM by inserting into the AFM a copy of all the applicable Cessna temporary revisions (TRs) listed in Table 1 of this AD.

Note 1: When a statement identical to that in the applicable TR(s) listed in Table 1 of this AD has been included in the general revisions of the AFM, the general revisions may be inserted into the AFM, and the copy of the applicable TR may be removed from the AFM.

Table 1.—AFM Revision
Applicable Model 650 airplanes | Cessna TR(s)
Citation III, S/Ns 0001 through 0199 inclusive, and 0203 through 0206 inclusive; equipped with Honeywell SPZ-8000 integrated avionics system | 65C3FM TC-R02-01, dated May 12, 2004; and 65C3FM TC-R02-06, dated August 11, 2004.
Citation III, S/Ns 0001 through 0199 inclusive, and 0203 through 0206 inclusive; not equipped with Honeywell SPZ-8000 integrated avionics system | 65C3FM TC-R02-01, dated May 12, 2004; and 65C3FM TC-R02-07, dated August 11, 2004.
Citation VI, S/Ns 0200 through 0202 inclusive, and 0207 and subsequent | 65C6FM TC-R04-01, dated May 12, 2004; and 65C6FM TC-R04-06, dated August 11, 2004.
Citation VII, S/Ns 7001 and subsequent | 65C7FM TC-R10-01, dated May 12, 2004.
Citation VII, S/Ns 7001 and subsequent, equipped with Honeywell SPZ-8000 integrated avionics system | 65C7FM TC-R10-07, dated August 11, 2004.

Parts Installation

(c) As of the effective date of this AD, no person may install an ACU having P/N 9914197-3 or -4, on any airplane.

Alternative Methods of Compliance (AMOCs)

(d) In accordance with 14 CFR 39.19, the Manager, Wichita Aircraft Certification Office, FAA, is authorized to approve AMOCs for this AD.

Issued in Renton, Washington, on April 13, 2005.
Ali Bahrami,
Manager, Transport Airplane Directorate, Aircraft Certification Service.

[FR Doc. 05-8095 Filed 4-21-05; 8:45 am]

BILLING CODE 4910-13-P